DEPARTMENT OF ENERGY

Federal Energy Regulatory Commission

Combined Notice of Filings #2

Take notice that the Commission received the following electric corporate filings:

Docket Numbers: EC12-129-000

Applicants: Baja California Power, Inc, Uluru Finance Limited, China Huaneng Group HK Ltd., Upper Horm Investments Ltd., Overseas International Inc. Limited

Description: Application for authorization under Section 203 of the Federal Power Act and request for expedited action re Baja California Power, Inc et al.

Filed Date: 8/2/12

Accession Number: 20120802-0200

Comments Due: 5 p.m. ET 8/23/12

Docket Numbers: EC12-130-000

Applicants: Viridity Energy Inc.

Description: Application of Viridity Energy, Inc., for transaction approval under FPA Section 203, request for waivers, and request for expedited consideration.

Filed Date: 8/3/12

Accession Number: 20120803-5056

Comments Due: 5 p.m. ET 8/24/12

Take notice that the Commission received the following electric rate filings:

Docket Numbers: ER10-1910-001; ER10-1911-001; ER10-1909-001; ER10-1908-001

Applicants: Duquesne Light Company, Duquesne Power, LLC, Duquesne Keystone, LLC, Duquesne Conemaugh LLC

Description: Amended Notice of Change in Status of Duquesne Light Company, et al.

Filed Date: 8/2/12

Accession Number: 20120802-5138

Comments Due: 5 p.m. ET 8/23/12

Docket Numbers: ER11-3643-003

Applicants: PacifiCorp

Description: PacifiCorp submits tariff filing per 35: OATT Revised Section 1 and 3 to be effective 12/25/2011.

Filed Date: 8/3/12

Accession Number: 20120803-5048

Comments Due: 5 p.m. ET 8/24/12

Docket Numbers: ER12-2125-000

Applicants: GWF Energy LLC

Description: Clarification to Notice of Change in Market-Based Rate Status of GWF Energy LLC.

Filed Date: 8/3/12

Accession Number: 20120803-5076

Comments Due: 5 p.m. ET 8/17/12

Docket Numbers: ER12-2297-001

Applicants: BFES Inc.

Description: Initial Tariff Baseline to be effective 9/24/2012.

Filed Date: 8/3/12

Accession Number: 20120803-5001

Comments Due: 5 p.m. ET 8/24/12

Docket Numbers: ER12-2393-000

Applicants: ISO New England Inc., New England Power Pool Participants Committee

Description: Rev. to FCM Rules Related to Non-Price Retirement Requests to be effective 10/2/2012.

Filed Date: 8/3/12

Accession Number: 20120803-5036

Comments Due: 5 p.m. ET 8/24/12

Docket Numbers: ER12-2394-000

Applicants: PacifiCorp

Description: PacifiCorp submits tariff filing per 35.13(a)(2)(iii: Powerex Settlement of CAISO Scheduling Charges/Revenues to be effective 7/31/2012.

Filed Date: 8/3/12

Accession Number: 20120803-5047

Comments Due: 5 p.m. ET 8/24/12

Docket Numbers: ER12-2395-000

Applicants: NaturEner Power Watch, LLC, NorthWestern Corporation

Description: NaturEner Power Watch, LLC submits tariff filing per 35.13(a)(2)(iii: Revised COA No. 260 NaturEner Power Watch to be effective 8/3/2012.

Filed Date: 8/3/12

Accession Number: 20120803-5061

Comments Due: 5 p.m. ET 8/24/12

Docket Numbers: ER12-2396-000

Applicants: Pacific Gas and Electric Company

Description: Pacific Gas and Electric Company submits tariff filing per 35.13(a)(2)(iii: Amendment to WD Tariff: Online Generator Interconnection Request to be effective 10/3/2012.

Filed Date: 8/3/12

Accession Number: 20120803-5075

Comments Due: 5 p.m. ET 8/24/12

Docket Numbers: ER12-2397-000

Applicants: Southern California Edison Company

Description: Southern California Edison submits Application for PPA Approval of Affiliate Transaction Pursuant to Section 205 of the Federal Power Act.

Filed Date: 8/3/12

Accession Number: 20120803-5078

Comments Due: 5 p.m. ET 8/24/12

Docket Numbers: ER12-2398-000

Applicants: NRG Solar Borrego I LLC

Description: NRG Solar Borrego I LLC submits tariff filing per 35.12: Application for Market-Based Rate Authority and Baseline Tariff to be effective 10/2/2012.

Filed Date: 8/3/12

Accession Number: 20120803-5079

Comments Due: 5 p.m. ET 8/24/12

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2012.
Nathaniel J. Davis, Sr.,
Deputy Secretary.

[FR Doc. 2012-19756 Filed 8-10-12; 8:45 am]

BILLING CODE 6717-01-P